DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency (FEMA), as part of its continuing effort to reduce paperwork and respondent burden, invites the general public and other Federal agencies to take this opportunity to comment on a continuing information collection. In accordance with the Paperwork Reduction Act of 1995 (44 U.S.C. 3506(c)(2)(A)), this notice seeks comments concerning the Mission Assignment forms that are used to record requests for Federal assistance by State and Federal entities to FEMA.

SUPPLEMENTARY INFORMATION: The Mission Assignment forms are necessary to support the Robert T. Stafford Disaster Relief and Emergency Assistance Act, Pub. L. 93-288 as amended, 42 U.S.C. 5121 et seq.; also, the Stafford Act and its implementing regulations 44 CFR 206.7 have provided for FEMA to issue mission assignments for disaster work performed by other Federal agencies. A written request for Federal assistance may be submitted on an Action Request Form (ARF). The ARF is the working document requesting Federal assistance. The mission assignments are directives provided by FEMA to another agency to perform specific work in disaster operations on a reimbursable basis and are defined in the title 44, Code of Federal Regulations, 206.2(a)18. The mission assignment is used to record a request for Federal assistance by States and Federal entities to FEMA, and may become the official FEMA obligating document when a mission assignment to another Federal agency results from the request. The mission assignment contains information that is used by FEMA management to evaluate requests for assistance from States, other Federal agencies and internal FEMA organizations. The requirement that requests for assistance to be made in writing and approved by the requesting State can be found in 44 CFR part 206. Requirements for program and finance officials to sign for the approval of funds from the President's Disaster Relief Fund are found in standard Federal financial regulations regarding financial operations and separation of duties.

Collection of Information

Title: Request for Federal Assistance Form—How to Process Mission Assignments in Federal Disaster Operations.

Type of Information Collection: Revision of a currently approved collection.

OMB Number: 1660-0047.

Form Numbers: FEMA Form 90-129, Mission Assignment (MA), and FEMA Form 90-136, Action Request Form (ARF).

Abstract: The Mission Assignment Form is used to record a request for Federal assistance by States and Federal entities to FEMA, and may become the official FEMA obligating document if a mission assignment to another Federal agency results from the request. A written request for Federal assistance may be submitted on an Action Request Form (ARF). The ARF is the working document requesting Federal assistance. Mission assignments are directives provided by FEMA to another agency to perform specific work in disaster operations, on a reimbursable basis and are defined in the title 44, Code of Federal Regulations, 206.2(a)18 and to record Federal approving signatures.

Affected Public: State, local or tribal government and Federal government.

Estimated Total Annual Burden Hours:

FEMA forms | Number of respondents (A) | Number of responses × 12 disasters per year (B) | Hours per response minutes (C) | Annual burden hours
FEMA Form 90-129 | 56 | 33 × 12 =396* | 1 | 396
FEMA Form New, Action Request Form | 56 | 95 × 12=1140* | 20 | 380
Total | 56 | 1536 | 21 | 776
* It is estimated that an average of 33 Mission Assignments (FEMA Form 90-129) will be processed per disaster and an average of 95 Action Request Forms (FEMA Form 90-136) will be received from States.

Estimated Cost: There is no cost associated with completing these forms.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be received on or before April 27, 2004.

ADDRESSES: Interested persons should submit written comments on the proposed information collection to Muriel B. Anderson, Chief, Records Management Branch, FEMA at 500 C Street, SW., Room 316, Washington, DC 20472, facsimile number (202) 646-3347, or email address InformationCollections@fema.gov.

FOR FURTHER INFORMATION CONTACT: Contact Michael W. Lowder Branch Chief, Operations Branch 202-646-3866 for additional information. You may contact Ms. Anderson for copies of the proposed information collection (see ADDRESSES information above).

Dated: February 20, 2004.
Edward W. Kernan,
Division Director, Information Resources Management Division, Information Technology Services Directorate.

[FR Doc. 04-4405 Filed 2-26-04; 8:45 am]

BILLING CODE 9110-10-P